DEPARTMENT OF TRANSPORTATION

Pipeline and Hazardous Materials Safety Administration

[Docket No. PHMSA-2005-20104 (Notice No. 05-06)]

Safety Advisory: Manufacture, Marking, and Sale of Substandard Compressed Gas Cylinders

AGENCY: Pipeline and Hazardous Materials Safety Administration (PHMSA), DOT.

ACTION: Safety advisory notice.

SUMMARY: This is to notify the public that PHMSA and the Office of the Inspector General (OIG) are investigating the manufacture, marking, and sale of high pressure DOT exemption cylinders made and/or distributed by Global Composites International, Inc. (GCI), Ontario, CA. PHMSA and the OIG have evidence that suggests GCI manufactured, marked, certified, and sold an undetermined number of high-pressure DOT exemption carbon fiber filament cylinders when the cylinders had not been manufactured in accordance with the Hazardous Materials Regulations (HMR), DOT-E 12695, and the design qualification standards incorporated into the exemption. The evidence suggests that some of these cylinders were not wrapped with a sufficient number of carbon fiber layers to insure their structural integrity. In addition, the evidence suggests that many of these cylinders did not undergo the complete series of safety tests and inspections required by the HMR and may not possess the structural integrity to safely contain its contents under pressure during normal transportation and use. Extensive property damage, serious personal injury, or death could result from rupture of a cylinder.

FOR FURTHER INFORMATION CONTACT: Raymond L. LaMagdelaine, Chief Special Investigations, Office of Hazardous Materials Enforcement, Pipeline and Hazardous Materials Safety Administration, U.S. Department of Transportation, 400 7th Street SW., Room 7104, Washington DC, 20590. Telephone: (202) 366-4700.

SUPPLEMENTARY INFORMATION: Through its investigation, PHMSA and the OIG believe that GCI manufactured, marked, certified and sold an undetermined number of high-pressure carbon fiber wrapped cylinders owned by commercial entities and the private consumer. Among others, we believe many of these may be in use by paint ball enthusiasts. DOT recommends that any person possessing a cylinder manufactured by Global Composites International, Inc. (GCI) and marked with exemption number DOT-E 12695 take the cylinder to a qualified refilling station and have the pressure relieved from the cylinder. The cylinder is no longer authorized for use. Refilling stations and cylinder requalification facilities are advised that DOT-E 12695 has been suspended and these cylinders may not be refilled or requalified for service.

This safety advisory covers all high-pressure DOT exemption cylinders manufactured by Global Composites International, Inc. and marked with DOT exemption number DOT-E 12695 These cylinders may pose a safety risk to the public and should be considered unsafe for use in hazardous materials service. Furthermore, cylinders described in this safety advisory should not be filled with a hazardous material.

Issued in Washington, DC on August, 2005.
Robert A. McGuire,
Associate Administrator for Hazardous Materials Safety.

[FR Doc. 05-16022 Filed 8-11-05; 8:45 am]

BILLING CODE 4910-60-P